DEPARTMENT OF HEALTH AND HUMAN SERVICES

National Institutes of Health

National Institute of Diabetes and Digestive and Kidney Diseases; Amended Notice of Meeting

Notice is hereby given of a change in the meeting of the National Institute of Diabetes and Digestive and Kidney Diseases Special Emphasis Panel, July 01, 2013, 01:00 p.m. to July 01, 2013, 02:00 p.m., National Institutes of Health, Two Democracy Plaza, 6707 Democracy Boulevard, Bethesda, MD, 20892 which was published in the Federal Register on June 06, 2013, 78 FR 34111.

The name of the meeting was changed to Ancillary Studies on Health Insurance Designs. The meeting is closed to the public.

Dated: June 11, 2013.
David Clary,
Program Analyst, Office of Federal Advisory Committee Policy.

[FR Doc. 2013-14210 Filed 6-14-13; 8:45 am]

BILLING CODE 4140-01-P